DEPARTMENT OF VETERANS AFFAIRS

[OMB Control No. 2900-0518]

Agency Information Collection (Income Verification) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before March 4, 2013.

ADDRESSES: Submit written comments on the collection of information through www.Regulations.gov; or to VA's OMB Desk Officer, OMB Human Resources and Housing Branch, New Executive Office Building, Room 10235, Washington, DC 20503, (202) 395-7316. Please refer to “OMB Control No. 2900-0518” in any correspondence.

FOR FURTHER INFORMATION CONTACT: Crystal Rennie, Enterprise Records Service (005R1B), Department of Veterans Affairs, 810 Vermont Avenue NW., Washington, DC 20420, (202) 632-7492, FAX (202) 632-7583 or email crystal.rennie@va.gov. Please refer to “OMB Control No. 2900-0518.”

SUPPLEMENTARY INFORMATION: Title: Income Verification, VA Form 21-0161a.

OMB Control Number: 2900-0518.

Type of Review: Extension of a currently approved collection.

Abstract: VA Form 21-0161a is completed by employers of beneficiaries who have been identified as having inaccurately reported their income to VA. The data collected is used to determine the beneficiary's entitlement to income dependent benefits.

An agency may not conduct or sponsor, and a person is not required to respond to a collection of information unless it displays a currently valid OMB control number. The Federal Register Notice with a 60-day comment period soliciting comments on this collection of information was published on October 22, 2012, at pages 64596-64597.

Affected Public: Business or other for-profit.

Estimated Annual Burden: 15,000 hours.

Frequency of Response: One time.

Estimated Number of Respondents: 30 minutes.

Estimated Annual Responses: 30,000.

Dated: January 25, 2013.
By direction of the Secretary.
William F. Russo,
Deputy Director, Office of Regulations Policy and Management, Office of General Counsel, Department of Veterans Affairs.

[FR Doc. 2013-02035 Filed 1-30-13; 8:45 am]

BILLING CODE 8320-01-P